INTERNATIONAL TRADE COMMISSION

[Investigation No. 337-TA-1358]

Certain LED Landscape Lighting Devices, Components Thereof, and Products Containing Same; Notice of a Commission Determination Not To Review an Initial Determination Granting a Joint Motion To Terminate the Investigation; Termination of Investigation

AGENCY: U.S. International Trade Commission.

ACTION: Notice.

SUMMARY: Notice is hereby given that the U.S. International Trade Commission (“Commission”) has determined not to review an initial determination (“ID”) (Order No. 7) of the presiding chief administrative law judge (“CALJ”) granting a joint motion to terminate the investigation in its entirety based upon settlement.

FOR FURTHER INFORMATION CONTACT: Edward S. Jou, Esq., Office of the General Counsel, U.S. International Trade Commission, 500 E Street SW, Washington, DC 20436, telephone (202) 205-3316. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on April 14, 2023, based upon a complaint filed on behalf of Wangs Alliance Corporation d/b/a WAC Lighting (“WAC”) of Port Washington, New York. 88 FR 23096-97 (Apr. 14, 2023). The complaint, as supplemented, alleges violations of section 337 based upon the importation into the United States, the sale for importation, and the sale within the United States after importation of certain LED landscape lighting devices, components thereof, and products containing same by reason of the infringement of certain claims of U.S. Patent No. 10,920,971 (the “'971 Patent”), U.S. Patent No. 10,969,088, and 11,274,816. The Commission's notice of investigation named as the respondent Hinkley Lighting, Inc. (“Hinkley”) of Avon Lake, Ohio. Id. The Office of Unfair Import Investigations was not named as a party in this investigation. Id.

On June 6, 2023, WAC and Hinkley jointly moved to terminate the investigation in its entirety based upon a settlement agreement.

On June 8, 2023, the CALJ issued the subject ID granting the motion. The ID found that the motion complies with the requirements of 19 CFR 210.21(b)(1), including the attachment of confidential and public versions of the parties' settlement agreement. ID at 1-2. The ID also found “no evidence that terminating this investigation based on settlement would adversely affect the public health and welfare, competitive conditions in the United States economy, the production of like or directly competitive articles in the United States, or United States consumers.” Id. at 2-3. No petitions for review of the ID were filed.

The Commission has determined not to review the subject ID. The investigation is terminated in its entirety.

The Commission vote for this determination took place on July 6, 2023.

The authority for the Commission's determination is contained in section 337 of the Tariff Act of 1930, as amended (19 U.S.C. 1337), and in Part 210 of the Commission's Rules of Practice and Procedure (19 CFR part 210).

By order of the Commission.
Issued: July 6, 2023.
Lisa Barton,
Secretary to the Commission.

[FR Doc. 2023-14671 Filed 7-11-23; 8:45 am]

BILLING CODE 7020-02-P